ENVIRONMENTAL PROTECTION AGENCY

[EPA-HQ-OW-2024-0504; FRL-12451-02-OW]

Draft Sewage Sludge Risk Assessment for Perfluorooctanoic Acid (PFOA) and Perfluorooctane Sulfonic Acid (PFOS); Extension of Comment Period

AGENCY: Environmental Protection Agency (EPA).

ACTION: Notice of availability; extension of comment period.

SUMMARY: This document extends the comment period for the notice published by the Environmental Protection Agency in the Federal Register on January 15, 2025.

DATES: The comment period for the notice published in the Federal Register on January 15, 2025 (90 FR 3859), which was extended on February 21, 2025 (90 FR 10078), is further extended in response to stakeholder requests for more time. The EPA is extending the comment period, and the comments must be received on or before August 14, 2025.

ADDRESSES: You may send comments, identified by Docket ID No. EPA-HQ-OW-2024-0504, by any of the following methods:

• Federal eRulemaking Portal: https://www.regulations.gov/ (our preferred method). Follow the online instructions for submitting comments.

• Mail: U.S. Environmental Protection Agency, EPA Docket Center, Office of Water Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov/, including any personal information provided.

FOR FURTHER INFORMATION CONTACT: David Tobias, Health and Ecological Criteria Division, Office of Science and Technology, Office of Water (Mail Code 4304T), Environmental Protection Agency, 1200 Pennsylvania Avenue NW, Washington, DC 20460; telephone number: (202) 564-8534; email address: biosolidsprogram@epa.gov.

SUPPLEMENTARY INFORMATION: This document extends the comment period for a draft risk assessment published on January 15, 2025 (90 FR 3859), and the extension of comment period published on February 21, 2025 (90 FR 10078). Comments for notice FRL-12451-01-OW (90 FR 3859, January 15, 2025) must now be received on or before August 14, 2025.

This document extends the public comment period for the notice “Draft Sewage Sludge Risk Assessment for Perfluorooctanoic Acid (PFOA) and Perfluorooctane Sulfonic Acid (PFOS),” published in the Federal Register document on January 15, 2025 (90 FR 3859) (FRL-12451-01-OW), for an additional 120 days. In that document, the EPA announced the availability of the “Draft Sewage Sludge Risk Assessment for Perfluorooctanoic Acid (PFOA) and Perfluorooctane Sulfonic Acid (PFOS)” for a 60-day public comment period. On February 21, 2025, the EPA extended the public comment period for an additional 30 days (90 FR 10078) (FRL-12587-02-OA).

The draft risk assessment reflects the agency's latest scientific understanding of the potential risks to human health and the environment posed by the presence of PFOA and PFOS in sewage sludge that is land applied as a soil conditioner or fertilizer (on agricultural, forested, and other lands), surface disposed, or incinerated. The draft risk assessment focuses on those living on or near impacted sites or those that rely primarily on their products (e.g., food crops, animal products, drinking water); the draft risk assessment does not model risks for the general public. The draft risk assessment underwent independent external peer review, and the EPA revised the draft document accordingly. Once finalized, the risk assessment will provide information on risk from use or disposal of sewage sludge and will inform the EPA's potential future regulatory actions under the Clean Water Act.

The EPA is extending the comment period to allow interested parties additional time to thoroughly review and analyze this draft science document. Comments previously submitted need not be resubmitted as they are already incorporated into the public record and will be considered in the final risk assessment as appropriate.

To submit comments, or access the docket, please follow the detailed instructions provided under ADDRESSES. If you have questions, consult the technical person listed under FOR FURTHER INFORMATION CONTACT.

Tanya Hodge Mottley,
Acting Director, Office of Science and Technology, Office of Water.

[FR Doc. 2025-06571 Filed 4-14-25; 4:15 pm]

BILLING CODE 6560-50-P